DEPARTMENT OF ENERGY

Federal Energy Regulatory Commission

[Project Nos. 2407-060]

Alabama Power Company; Notice of Availability of Environmental Assessment

April 7, 2003.

In accordance with the National Environmental Policy Act of 1969 and the Federal Energy Regulatory Commission's (Commission's) regulations, the Office of Energy Projects has reviewed the application filed June 8, 2001, requesting the Commission's authorization to amend the project license. An environmental assessment (EA) is available for public review. The EA analyzes the environmental impacts of approving Alabama Power Company's (licensee for the Yates/Thurlow Project, FERC No. 2407) request to amend the project license to increase the generation capacity and hydraulic capacity to the as-built capacities.

A copy of the EA is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659.

Anyone may file comments on the EA. The public, Federal and State resource agencies are encouraged to provide comments. All written comments must be filed within 45 days of the issuance date of this notice shown above. Send an original and eight copies of all comments marked with the docket number P-2407-060 to: The Secretary, Federal Energy Regulatory Commission, 888 First Street, NE., Washington, DC 20426. If you have any questions regarding this notice, please contact Sean Murphy at telephone: (202) 502-6145 or email: sean.murphy@ferc.gov.

Magalie R. Salas,
Secretary.

[FR Doc. 03-9095 Filed 4-11-03; 8:45 am]

BILLING CODE 6717-01-P